DEPARTMENT OF TRANSPORTATION

Office of the Secretary

Aviation Proceedings, Agreements Filed the Week Ending December 29, 2006

The following Agreements were filed with the Department of Transportation under the Sections 412 and 414 of the Federal Aviation Act, as amended (49 U.S.C. 1382 and 1384) and procedures governing proceedings to enforce these provisions. Answers may be filed within 21 days after the filing of the application.

Docket Number: OST-2006-26768.

Date Filed: December 28, 2006.

Parties: Members of the International Air Transport Association.

Subject:

Mail Vote 525—Resolution 010i,

TC23/123 Europe-Japan Korea,

Special Passenger Amending Resolution from Korea (Rep. of) to Europe.

Intended effective date: 15 January 2007.

Barbara J. Hairston,
Supervisory Docket Officer, Docket Operations, Alternate Federal Register Liaison.

[FR Doc. E7-360 Filed 1-11-07; 8:45 am]

BILLING CODE 4910-9X-P